DEPARTMENT OF COMMERCE

National Oceanic and Atmospheric Administration

RIN: 0648-XL05

New England Fishery Management Council; Public Hearings

AGENCY: National Marine Fisheries Service (NMFS), National Oceanic and Atmospheric Administration (NOAA), Commerce.

ACTION: Notice of public hearings; request for comments.

SUMMARY: The New England Fishery Management Council (Council) will hold four public hearings to solicit comments on proposals to be included in the Draft Amendment 3 to the Northeast Skate Complex Fishery Management Plan (FMP).

DATES: Written comments must be received on or before 5 p.m. EST, November 10, 2008. The public hearings will be held from October 27, 2008 to October 30, 2008. For specific dates and times, see SUPPLEMENTARY INFORMATION.

ADDRESSES: The Council will take comments at public meetings in Hyannis and New Bedford, MA, Narragansett, RI and Portsmouth, NH. For specific locations, see SUPPLEMENTARY INFORMATION. Written comments should be sent to Patricia Kurkul, Regional Administrator, National Marine Fisheries Service, One Blackburn Drive, Gloucester, MA 01930. Comments may also be sent via fax to (978) 281-9135 or submitted via e-mail to Skateamendment3@noaa.gov with “Comments on Skate Draft Amendment 3” in the subject line. Requests for copies of the public hearing document and other information should be directed to Paul J. Howard, Executive Director, New England Fishery Management Council, 50 Water Street, Mill 2, Newburyport, MA 01950; telephone: (978) 465-0492. The public hearing document is also accessible electronically via the Internet at http://www.nefmc.org.

FOR FURTHER INFORMATION CONTACT: Paul J. Howard, Executive Director, New England Fishery Management Council; telephone: (978) 465-0492.

SUPPLEMENTARY INFORMATION: The Council proposes to take action to amend the Northeast Skate Complex Fishery Management Plan (FMP) and to address the new and revised requirements of the Magnuson-Stevens Fisheries Act. The Council will consider comments from fishermen, interested parties and the general public on the proposals and alternatives described in the public hearing document for Draft Amendment 3 to the Northeast Skate Complex FMP. Once it has considered public comments, the Council will approve final management measures and prepare a submission package for NMFS. There will be an additional opportunity for written public comments on the proposed rule when it is published in the Federal Register.

Major elements of the proposals in the Draft Amendment 3 and a Draft Supplemental Environmental Impact Statement include: (1) measures to reduce catch via time/area closures and/or skate possession limits to rebuild overfished smooth, thorny and winter skates as well as to stop overfishing of thorny skate; (2) implementation and specification of annual catch limits (ACLs) and accountability measures (AMs) to comply with a new mandate of the reauthorized Magnuson-Stevens Act; and (3) an annual specification and bi-annual review process to replace an obsolete baseline review procedure. There are two options for allocating ACLs to the skate wing and skate bait fisheries. There is also a hard total allowable catch (TAC) and soft TAC option to implement ACLs and AMs.

The dates, times, locations and telephone numbers of the hearings are as follows:

Monday, October 27, 2008 at 7 p.m. - Radisson Hotel, 287 Iyannough Road, Hyannis, MA 02601; telephone: (508) 771-1700.

Tuesday, October 28, 2008 at 7 p.m. - Whaling Museum, 18 Johnny Cake Hill, New Bedford, MA 02740; telephone: (508) 997-0046.

Wednesday, October 29, 2008 at 7 p.m. - Narragansett Town Hall, 25 Fifth Avenue, Narragansett, RI 02882; telephone: (401) 789-1044.

Thursday, October 30, 2008 at 7 p.m. - Urban Forestry Center, 45 Elwin Road, Portsmouth, NH 03801; telephone: (603) 431-6774.

Special Accommodations

These hearings are physically accessible to people with physical disabilities. Requests for sign language interpretation or other auxiliary aids should be directed to Paul J. Howard (see ADDRESSES) at least 5 days prior to the meeting date.

Authority: 16 U.S.C. 1801 et seq.

Dated: October 7, 2008.
Tracey L. Thompson,
Acting Director, Office of Sustainable Fisheries, National Marine Fisheries Service.

[FR Doc. E8-24165 Filed 10-9-08; 8:45 am]

BILLING CODE 3510-22-S